DEPARTMENT OF THE INTERIOR

Bureau of Indian Affairs

[223A2100DD/AAKC001030/A0A501010.999900253G]

Draft Environmental Impact Statement for the Proposed Chuckwalla Solar Projects, Clark County, Nevada

AGENCY: Bureau of Indian Affairs, Interior.

ACTION: Notice of availability.

SUMMARY: This notice advises the public that the Bureau of Indian Affairs (BIA), as the lead Federal agency, with the Bureau of Land Management (BLM), Bureau of Reclamation (BOR), National Park Service (NPS), Environmental Protection Agency (EPA), U.S. Fish and Wildlife Service (USFWS), Department of the Air Force (DAF), Nevada Department of Wildlife (NDOW), and the Moapa Band of Paiute Indians (Moapa Band) as cooperating agencies, intends to file a draft environmental impact statement (DEIS) with the EPA for the proposed Chuckwalla Solar Projects (Projects). The DEIS evaluates four photovoltaic (PV) solar energy generation and storage projects on the Moapa River Indian Reservation (Reservation) and generation interconnection (gen-tie) lines along with the use of existing access roads and an existing gen-tie line located on the Reservation, Reservation lands managed by BLM, BLM lands, and private land. This notice also announces that the DEIS is now available for public review and that public meetings will be held to solicit comments on the DEIS.

DATES: In order to be fully considered, written comments on the DEIS must arrive no later than 45 days after EPA publishes its Notice of Availability in the Federal Register.

Meeting dates: The dates and times of the virtual public meetings will be published in the Las Vegas Review-Journal and Moapa Valley Progress and on the following website 15 days before the public meetings: www.chuckwallasolarprojectsEIS.com.

ADDRESSES: You may mail, email, hand carry or telefax written comments to Mr. Chip Lewis, Regional Environmental Protection Officer, BIA Western Regional Office, Branch of Environmental Quality Services, 2600 North Central Avenue, 4th Floor Mail Room, Phoenix, Arizona 85004-3008. Comment may also be sent via email to: chip.lewis@bia.gov or on the Projects website at www.ChuckwallaSolarProjectsEIS.com. Please see the SUPPLEMENTARY INFORMATION section of this notice for directions on submitting comments. The public meetings can be joined online through the Projects website at www.ChuckwallaSolarProjectsEIS.com.

FOR FURTHER INFORMATION CONTACT: Mr. Chip Lewis, BIA Western Regional Office, Branch of Environmental Quality Services at 602-379-6750 or Mr. Garry Cantley at 602-379-6750. Individuals in the United States who are deaf, deafblind, hard of hearing, or have a speech disability may dial 711 (TTY, TDD, or TeleBraille) to access telecommunications relay services.

SUPPLEMENTARY INFORMATION: The proposed Federal action, taken under 25 U.S.C. 415, is the BIA's approval of a solar energy ground lease and associated agreements entered into by the Moapa Band with EDF Renewables Development, Inc. (Applicant). The agreements provide for construction, operation and maintenance (O&M), and eventual decommissioning of the four PV electricity generation and battery storage facilities located entirely on the Reservation and specifically on lands held in trust for the Moapa Band, in Clark County Nevada.

The PV electricity generation and battery storage facilities would be located on up to 6,500 acres of tribal trust land (1,977 acres for Project 1A, 689 acres for Project 1B, 1,573 acres for Project 2, and 2,016 acres for Project 3) and would have a combined capacity of up to 700 megawatts (MW)—200 MW for 1A, 50 MW for 1B, 200 MW for 2 and 250 MW for 3. The four solar Projects include the solar fields, access roads, temporary water pipeline and connection with an existing transmission gen-tie line.

Projects 1A and 1B would be built at the same time and would take up to 20 months. Construction of Projects 2 and 3 would each also take up to 20 months. The electricity generation and storage facilities are expected to be operated for up to 35 years under the terms of the leases, with time for construction and decommissioning. Major onsite facilities include multiple blocks of solar PV panels mounted on fixed tilt or tracking systems, pad mounted inverters and transformers, battery storage, access roads, and O&M facilities. Water will be needed during construction for dust control and a minimal amount will be needed during operations for administrative and sanitary water use and for panel washing. The water supply required for the Projects would be leased from the Moapa Band. Access to the Projects will be provided via North Las Vegas Boulevard from the I-15/US 93 interchange.

The purposes of the proposed Projects are, among other things, to: (1) Provide a long-term, diverse, and viable economic revenue base and job opportunities for the Moapa Band; (2) assist Nevada to meet their State renewable energy needs; and (3) allow the Moapa Band, in partnership with the Applicant, to optimize the use of the lease site while maximizing the potential economic benefit to the Moapa Band.

The BIA and BLM will use the EIS to make decisions on the land lease and right-of-way applications under their respective jurisdiction; the BOR will use the document to make a decision regarding the approval of an interconnection agreement, the NPS and EPA may use the document to make decisions under its authorities; the Moapa Band may use the DEIS to make decisions under its Environmental Policy Ordinance; and the USFWS may use the DEIS to support its decision under the Endangered Species Act.

Directions for Submitting Comments: Please include your name, return address and the caption: “DEIS Comments, Proposed Chuckwalla Solar Projects” on the first page of your written comments. You may also submit comments verbally during one of the virtual public meeting presentations or provide written comments to the address listed above in the ADDRESSES section.

To help protect the public and limit the spread of the COVID-19 virus, virtual public meetings will be held, where team members will provide a short presentation and remain available to discuss and answer questions. The PowerPoint presentation will be posted to the project website prior to the virtual meetings. Those who cannot live stream the presentation would be able to access the meeting presentation on the website and could join by telephone. Additionally, the live presentation will be recorded and made accessible for viewing throughout the comment period. The first public meeting will be held in the afternoon by video and telephone conference and the second public meeting will be held in the evening by video and telephone conference. The dates, times, and access information for the virtual meetings will be included in notices to be published in the Las Vegas Review-Journal and Moapa Valley Progress and on the project website at www.chuckwallasolarprojectsEIS.com 15 days before the meetings.

Locations Where the DEIS is Available for Review: The DEIS will be available for review at: BIA Western Regional Office, 2600 North Central Avenue, 12th Floor, Suite 210, Phoenix, Arizona; BIA Southern Paiute Agency, 180 North 200 East, Suite 111, St. George, Utah; and the BLM Southern Nevada District Office, 4701 North Torrey Pines Drive, Las Vegas, Nevada. The DEIS is also available online at: www.chuckwallasolarprojectsEIS.com.

To obtain an electronic copy of the DEIS, please provide your name and address in writing or by voicemail to Mr. Chip Lewis or Mr. Garry Cantley. Their contact information is listed in the FOR FURTHER INFORMATION CONTACT section of this notice. Individual paper copies of the DEIS will be provided only upon request.

Public Comment Availability: Written comments, including names and addresses of respondents, will be available for public review at the BIA Western Regional Office, at the mailing address shown in the ADDRESSES section during regular business hours, 8:00 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Principal Deputy Assistant Secretary—Indian Affairs by part 209 of the Department Manual.

Bryan Newland,
Assistant Secretary—Indian Affairs.

[FR Doc. 2022-04545 Filed 3-3-22; 8:45 am]

BILLING CODE 4337-15-P